DEPARTMENT OF THE INTERIOR

Bureau of Land Management

[20X.LLAK930000.L13100000.EI0000.241A]

Notice of 2019 National Petroleum Reserve in Alaska Oil and Gas Lease Sale and Notice of Availability of the Detailed Statement of Sale

AGENCY: Bureau of Land Management, Interior.

ACTION: Notice.

SUMMARY: The Bureau of Land Management (BLM) Alaska State Office will hold an oil and gas lease sale bid opening for 350 tracts in the National Petroleum Reserve in Alaska (NPR-A).

DATES: The oil and gas lease sale bid opening will be at 10 a.m. (AKST) on Wednesday, December 11, 2019. The BLM must receive all sealed bids by 4 p.m. (AKST) Monday, December 9, 2019. The Detailed Statement of Sale for the 2019 NPR-A Oil and Gas Lease Sale will be available to the public on November 5, 2019.

ADDRESSES: Sealed bids must be received at the BLM Alaska State Office, ATTN: Carol Taylor (AK932); 222 West 7th Avenue, #13; Anchorage, Alaska 99513-7504. The Detailed Statement of Sale is available at the BLM Alaska website at https://www.blm.gov/alaska, and copies are available from the BLM Alaska Public Information Center (Public Room), 222 West 7th Avenue, #13; Anchorage, Alaska 99513-7504; telephone 907-271-5960.

FOR FURTHER INFORMATION CONTACT: Wayne Svejnoha, Energy and Minerals Branch Chief, at 907-271-4407. People who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The December 2019 NPR-A Oil and Gas Lease Sale will include 350 tracts (approximately 3.98 million acres) available for leasing under the NPR-A Integrated Activity Plan/Environmental Impact Statement Record of Decision (ROD) finalized in February 2013.

The opening and reading of the bids for the 2019 NPR-A lease sale will be available via video livestreaming at http://www.blm.gov/live.

The Detailed Statement of Sale includes a description of the areas the BLM is offering for lease, as well as the lease terms, conditions, special stipulations, required operating procedures, and directions about how to submit bids. If you plan to submit a bid(s), please note that all bids must be sealed in accordance with the provisions identified in the Detailed Statement of Sale.

The United States reserves the right to withdraw any tract from this sale prior to issuance of a written acceptance of a bid.

Authority: 43 CFR 3131.4-1 and 42 U.S.C. 6506a.

Chad B. Padgett,
State Director, Alaska.

[FR Doc. 2019-24113 Filed 11-4-19; 8:45 am]

BILLING CODE 4310-JA-P